DEPARTMENT OF THE INTERIOR

National Park Service

[2253-665]

Notice of Inventory Completion: University of Oregon Museum of Natural and Cultural History, Eugene, OR

AGENCY: National Park Service, Interior.

ACTION: Notice.

SUMMARY: The University of Oregon Museum of Natural and Cultural History has completed an inventory of human remains, in consultation with the appropriate Indian tribes, and has determined that there is a cultural affiliation between the human remains and present-day Indian tribes. Representatives of any Indian tribe that believes itself to be culturally affiliated with the human remains may contact the University of Oregon Museum of Natural and Cultural History. Repatriation of the human remains to the Indian tribe(s) stated below may occur if no additional claimants come forward.

DATES: Representatives of any Indian tribe that believes it has a cultural affiliation with the human remains should contact the University of Oregon Museum of Natural and Cultural History at the address below by July 21, 2011.

ADDRESSES: Dr. Pamela Endzweig, Director of Collections, University of Oregon Museum of Natural and Cultural History, 1224 University of Oregon, Eugene, OR 97403-1224, telephone (541) 346-5120.

SUPPLEMENTARY INFORMATION: Notice is hereby given in accordance with the Native American Graves Protection and Repatriation Act (NAGPRA), 25 U.S.C. 3003, of the completion of an inventory of human remains in the possession of the University of Oregon Museum of Natural and Cultural History, Eugene, OR. The human remains were removed from an unknown site, but possibly from Lane County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by University of Oregon Museum of Natural and Cultural History professional staff in consultation with representatives of the Confederated Tribes of the Grand Ronde Community of Oregon and Confederated Tribes of Siletz Indians of Oregon (previously listed as Confederated Tribes of the Siletz Reservation, Oregon).

History and Description of the Remains

At an unknown date, human remains representing a minimum of one individual were acquired by the museum. Museum records indicate that their provenience is “unknown/is possibly the Creswell burial excavated by Peterson.” Based on museum records, the remains may have been recovered from Creswell, Lane County, OR. Elsewhere, the remains are cataloged as “unknown, Indian.” No known individual was identified. No associated funerary objects are present.

The skeletal characteristics of the human remains are not suggestive of race. Historical documents, ethnographic sources, and oral history indicate that the Kalapuya people have occupied the southern Willamette Valley since precontact times in the area where the remains may have been recovered. Based on the information available, the individual is assumed to be Native American, and possibly of Kalapuya cultural affiliation. Descendants of the Kalapuya are members of the Confederated Tribes of the Grand Ronde Community of Oregon and Confederated Tribes of Siletz Indians of Oregon.

Determinations Made by the University of Oregon Museum of Natural and Cultural History

Officials of the University of Oregon Museum of Natural and Cultural History have determined that:

• Pursuant to 25 U.S.C. 3001(9), the human remains described above represent the physical remains of one individual of Native American ancestry.

• Pursuant to 25 U.S.C. 3001(2), there is a relationship of shared group identity that can be reasonably traced between the Native American human remains and the Confederated Tribes of the Grand Ronde Community of Oregon and Confederated Tribes of Siletz Indians of Oregon.

Additional Requestors and Disposition

Representatives of any other Indian tribe that believes itself to be culturally affiliated with the human remains should contact Dr. Pamela Endzweig, Director of Collections, University of Oregon Museum of Natural and Cultural History, 1224 University of Oregon, Eugene, OR 97403-1224, telephone (541) 346-5120, before July 21, 2011. Repatriation of the human remains to the Confederated Tribes of the Grand Ronde Community of Oregon and/or Confederated Tribes of Siletz Indians of Oregon may proceed after that date if no additional claimants come forward.

The University of Oregon Museum of Natural and Cultural History is responsible for notifying the Confederated Tribes of the Grand Ronde Community of Oregon and the Confederated Tribes of Siletz Indians of Oregon that this notice has been published.

Dated: June 15, 2011.
Sherry Hutt,
Manager, National NAGPRA Program.

[FR Doc. 2011-15429 Filed 6-20-11; 8:45 am]

BILLING CODE 4312-50-P